ENVIRONMENTAL PROTECTION AGENCY

[FRL-9392-4]

Environmental Monitoring and Assessment Program Research Strategy

AGENCY: Environmental Protection Agency.

ACTION: Notice of availability of a final document.

SUMMARY: The Environmental Protection Agency's (EPA) is announcing the availability of its Environmental Monitoring and Assessment Program Research Strategy, EPA 620/R-02/002. The Environmental Monitoring and Assessment Program Research Strategy serves to guide the planning of EPA research efforts, led by the Office of Research and Development (ORD), in developing indicators and unbiased statistical design frameworks that allow the condition of aquatic ecosystems to be assessed at local, tribal, state, regional, and national scales.

ADDRESSES: A limited number of copies of the Environmental Monitoring and Assessment Program Research Strategy are available from the National Service Center for Environmental Publications. Request a copy by telephoning 1-800-490-9198 or 513-489-8190 and providing the title and the EPA number for the document, EPA 620/R-02/002. Internet users may download a copy from the EPA's Office of Research and Development home page. The URL is http://www.epa.gov/ORD/.

FOR FURTHER INFORMATION CONTACT: Dr. Michael McDonald, the National Health and Environmental Effects Research Laboratory's EMAP Program Manager, (MD-B-243-01), U.S. Environmental Protection Agency, Research Triangle Park, NC 27711; telephone: 919-541-7973; facsimile: 919-541-4621; e-mail: mcdonald.michael@epa.gov.

SUPPLEMENTARY INFORMATION: In assessing environmental risk and determining restoration priorities, current environmental conditions must be known and rates of change must be measurable. Because of EPA's responsibilities under the Clean Water Act, the Environmental Monitoring and Assessment Program, within the Office of Research and Development, has focused on improving monitoring and assessment methodologies for aquatic ecosystems and their associated landscapes. EMAP has focused on developing indicators and unbiased statistical design frameworks to assess the status and trends of aquatic ecosystems at local, state, regional, and national scales. As is EMAP's primary mission, the goal of this Strategy is the development of sound scientific approaches to determine the health of the nation's aquatic ecosystems and the stressors most closely associated with impairment.

EMAP efforts ensure that comprehensive and comparable methods are being used at a national level, allowing meaningful assessments and the first regional comparisons of aquatic ecosystem conditions across the entire U.S. These results will significantly improve the quality of performance-based reporting to Congress and will better inform EPA national and regional decisions on priority issues and areas.

State managers and technical staff frequently struggle to balance local information needs with federal reporting requirements. EMAP will continue to work with State partners to develop cost-effective monitoring methodology to aid in decision-making. Results to date from EMAP approach applications in more than 30 States show cost-savings while producing full-coverage condition estimates. Often these cost-savings are used to address priority issues also identified through the EMAP process.

Finally, EMAP's approach and associated indicators serve the Agency and the public by contributing to scientifically based reports such as EPA's upcoming state of the environment report and the Heinz Center's “The State of the Nation's Ecosystems” report. EMAP's efforts help to fill important information needs at both national and at local levels. EMAP information will improve our ability assess our progress in environmental protection and provide valuable information for decision makers and the public.

This Environmental Monitoring and Assessment Program Research Strategy was subjected to external peer review by independent scientific experts. The final strategy reflects the comments of both internal and external peer review.

Dated: October 2, 2002.
Paul Gilman,
Assistant Administrator for Research and Development.

[FR Doc. 02-25583 Filed 10-7-02; 8:45 am]

BILLING CODE 6560-50-P